DEPARTMENT OF COMMERCE

National Oceanic and Atmospheric Administration

RIN 0648-XE812

Pacific Island Fisheries; Aquaculture

AGENCY: National Marine Fisheries Service (NMFS), National Oceanic and Atmospheric Administration (NOAA), Commerce.

ACTION: Notice of intent to prepare a Programmatic Environmental Impact Statement; public meetings; request for comments.

SUMMARY: NMFS, in coordination with the Western Pacific Fishery Management Council, intends to prepare a Programmatic Environmental Impact Statement (PEIS) to analyze the potential environmental impacts of a proposed Pacific Islands Region aquaculture management program and alternatives. The PEIS would support offshore aquaculture development, including appropriate management unit species for aquaculture, reasonably foreseeable types of offshore aquaculture operations, and permitting and reporting requirements for persons conducting aquaculture activities in Federal waters.

DATES: NMFS must receive written comments by October 31, 2016. The meeting dates are:

1. October 18, 2016, 6 p.m. to 9 p.m., Saipan.

2. October 20, 2016, 6 p.m. to 9 p.m., Guam.

ADDRESSES: The meeting locations are:

1. Saipan—October 18, 2016, 6 p.m. to 9 p.m., Northern Marianas College, As Terlaje Campus, Building S, Room S-1, Saipan, MP 96950.

2. Guam—October 20, 2016, 6 p.m. to 9 p.m., Hilton Guam Resort & Spa, 202 Hilton Road, Tumon Bay, Guam 96913.

You may submit comments on this action, identified by NOAA-NMFS-2016-0111, by any of the following methods:

• Electronic Submission: Submit all electronic public comments via the Federal e-Rulemaking Portal. Go to http://www.regulations.gov/docket?D=NOAA-NMFS-2016-0111, click the “Comment Now!” icon, complete the required fields, and enter or attach your comments.

• Mail: Send written comments to Michael D. Tosatto, Regional Administrator, NMFS Pacific Islands Regional Office, 1845 Wasp Blvd., Bldg. 176, Honolulu, HI 96818.

• Scoping Meeting: Submit written comments at a scoping meeting held by NMFS for this action.

Instructions: You must submit comments by the above methods to ensure that NMFS receives, documents, and considers your comments. NMFS may not consider comments sent by any other method, to any other address or individual, or received after the end of the comment period. NMFS will consider all comments received as part of the public record and will generally post comments for public viewing on www.regulations.gov without change. All personal identifying information (e.g., name, address) submitted voluntarily by the sender will be publicly accessible. Do not submit confidential business information, or otherwise sensitive or protected information. NMFS will accept anonymous comments (enter “N/A” in the required fields if you wish to remain anonymous).

FOR FURTHER INFORMATION CONTACT: David Nichols, NMFS, Pacific Islands Regional Office, (808) 725-5180.

SUPPLEMENTARY INFORMATION: NMFS previously published a Notice of Intent to prepare a PEIS to analyze the potential environmental impacts of a proposed Pacific Islands aquaculture management program and alternatives (81 FR 57567, August 23, 2016). Details regarding development of the PEIS may be found in that Notice of Intent, and are not repeated here.

NMFS is holding two additional public scoping meetings in Guam and Saipan (see DATES and ADDRESSES) to help identify alternatives and determine the scope of environmental issues for consideration in the PEIS.

NMFS will again ask for additional public comments once NMFS publishes the Draft PEIS, probably in late spring 2017. You may find more information about the NMFS aquaculture program and the progress of the PEIS at www.fpir.noaa.gov/SFD/SFD_aq.html.

Dated: September 27, 2016.
Emily H. Menashes,
Acting Director, Office of Sustainable Fisheries, National Marine Fisheries Service.

[FR Doc. 2016-23691 Filed 9-29-16; 8:45 am]

BILLING CODE 3510-22-P